DEPARTMENT OF HEALTH AND HUMAN SERVICES

Health Resources and Services Administration

Agency Information Collection Activities: Proposed Collection: Public Comment Request; Information Collection Request Title: Rural Health Care Services Outreach Program Measures

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 20, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Rural Health Care Services Outreach Program Measures, OMB No. 0906-0009-Revision

Abstract: The Rural Health Care Services Outreach Program is authorized by section 330A(e) of the Public Health Service Act (42 U.S.C. 254c(e)) to “promote rural health care services outreach by improving and expanding the delivery of health care services to include new and enhanced services in rural areas.” The goals for the Rural Health Care Services Outreach Program are as follows: (1) expand the delivery of health care services in rural communities; (2) deliver health care services through a strong consortium, in which every consortium member organization is actively involved and engaged in the planning and delivery of services; (3) utilize and/or adapt an evidence-based or innovative, evidence-informed model(s) in the delivery of health care services; and (4) improve population health and demonstrate health outcomes and sustainability. HRSA collects information from grant recipients that participate in this program using an OMB-approved set of performance measures and seeks to extend its approved information collection.

Need and Proposed Use of the Information: For this program, performance measures were drafted to provide data to the program and to enable HRSA to provide aggregate program data required by Congress under the Government Performance and Results Act of 1993. These measures cover the principal topic areas of interest to the Federal Office of Rural Health Policy (FORHP), including: (1) access to care, (2) population demographics, (3) consortium/network, (4) sustainability, (5) project specific domains, and (6) clinical measures. All measures will speak to FORHP's progress toward meeting the goals set. FORHP collects this information to quantify the impact of grant funding on access to health care, quality of services, and improvement of health outcomes. FORHP uses the data for program improvement and grantees use the data for performance tracking. No substantive changes are proposed from the current data collection effort; FORHP proposes updating hyperlinks for the clinical measures and including an option for text entry to capture names of counties for the number of counties served measure.

Likely Respondents: The respondents would be recipients of the Rural Health Care Services Outreach Program grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Services Outreach Performance Improvement Measurement System | 61 | 1 | 61 | 7.5 | 457.5
Total | 61 |  | 61 |  | 457.5

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-13665 Filed 6-20-24; 8:45 am]

BILLING CODE 4165-15-P